POSTAL SERVICE

39 CFR Part 111

Securing Bundles of Flats

AGENCY: Postal Service™.

ACTION: Final rule.

SUMMARY: The Postal Service is amending Mailing Standards of the United States Postal Service, Domestic Mail Manual (DMM®) in sections to modify the requirements for securing bundles of flats.

DATES: Effective: July 1, 2025.

FOR FURTHER INFORMATION CONTACT: Dale Kennedy at (202) 268-6592 or Doriane Harley at (202) 268-2537.

SUPPLEMENTARY INFORMATION: The Postal Service is revising the standards in DMM section 203.4.4 to include an exemption for mailings of 500 flat-sized pieces or fewer entered at the BMEU from bundle preparation. Applicable mailings may be prepared loose in flat trays instead of in bundles. The Postal Service is also revising the standards in sections 203.4.5, 203.4.8, and 203.4.9 to require all bundles of flats to have two or more cross-strapped bands or be shrink-wrapped with one or more cross-strapped bands except for newspapers that are placed in a flat tray and entered as exceptional dispatch. These exceptional dispatch newspapers can use only one strap around the middle to prevent damage. Additionally, the Postal Service is eliminating the use of rubber bands and twine/string for securing bundles of flats except for bundles of First-Class Mail flats placed in flat trays. Furthermore, section 245.9.5(d) will be revised to reflect that shrink-wrapped multi carrier route bundles require two or more cross-strapped bands. These changes will become effective on July 1, 2025.

Comments on Proposed Changes and USPS Responses

The Postal Service received twenty-nine formal comments on the June 14, 2024, proposed rule.

• Comment: Original proposed implementation date of January 19, 2025, was too quick and did not allow enough time for purchasing equipment and modifying product lines.

Response: The Postal Service understands the time element was a concern and did not proceed with the January 19, 2025, date. To ensure the revised requirements are achievable, the new implementation date is July 1, 2025.

• Comment: Changes proposed would be too costly to implement or comply with.

Response: The Postal Service understands the industry's concerns surrounding potential costs. However, we must take into consideration the impact bundle breakage is having on the organization, impacting service, creating additional handling costs to manually process the broken bundles along with the damage to the mailpieces associated with the bundle breakage. The Postal Service believes this final rule will be proved to be less costly than originally proposed and more feasible for the mailers to implement.

• Comment: Mailers were concerned about the impacts to sustainability created by the additional waste from the extra strapping.

Response: The Postal Service believes that any additional waste would be managed by the existing USPS efforts around capture recyclable materials and would not require additional measures to handle beyond those already in place.

• Comment: There isn't enough data to support the need for changes and that the proposed changes will not address the issues at hand.

Response: The Postal Service has implemented data tracking that reflects the ongoing need to address this issue along with the data provided in recent Postal Regulatory Commission (PRC) and Office of Inspector General (OIG) studies. Mailers are being contacted in many cases based on this information.

• Comment: Several commenters were concerned about the elimination of string and rubber bands for securing bundles of flats. Mailers expressed that the Postal Service allow exceptions for First-Class Mail flats to allow use of either method of securing the bundles of flats.

Response: Both methods of securing bundles of flats were criticized in the PRC and OIG studies as not having enough tensions to adequately secure bundles for long periods of time. Postal Service reports also reflect increased numbers of incidents related to bundle breakage when using string or rubber bands. The Postal Service will allow First-Class Mail flats to continue to use string and rubber bands for flats prepared in flat tubs that will not be process on bundle/package sorting machines.

The Postal Service is committed to addressing the ongoing bundle breakage issue to reduce costs for flats products related to manual handling, to prevent operational disruptions caused by broken bundles, and eliminated product damage related to broken bundles.

The Postal Service adopts the described changes to Mailing Standards of the United States Postal Service, Domestic Mail Manual (DMM), incorporated by reference in the Code of Federal Regulations. We will publish an appropriate amendment to 39 CFR part 111 to reflect these changes.

List of Subjects in 39 CFR Part 111

Administrative practice and procedure, Postal Service.

Accordingly, the Postal Service amends Mailing Standards of the United States Postal Service, Domestic Mail Manual (DMM), incorporated by reference in the Code of Federal Regulations, as follows (see 39 CFR 111.1):

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

* * * * *

Mailing Standards of the United States Postal Service, Domestic Mail Manual (DMM)

* * * * *

200 Commercial Letters, Cards, Flats, and Parcels

* * * * *

203 Basic Postage Statement, Documentation, and Preparation Standards

* * * * *

4.0 Bundles

* * * * *

[Revise the title of 203.4.4 to read as follows:]

4.4 Exception to Bundle Preparation—Full Letter and Flat Trays and Small Flat Mailings

[Add a sentence at the end of 4.4 to read as follows:]

* * * In mailings of 500 or fewer flat-sized pieces, mailers are not required to prepare bundles and may place said pieces loose in flat trays.

4.5 Securing Bundles of Flats

Bundles must be able to withstand normal transit and handling without breakage or injury to USPS employees, and are subject to the following requirements:

[Revise the text of item (a) to read as follows:]

a. Bundles must be secured with two or more cross-strapped bands or shrink-wrapped with one or more cross-strapped bands. Banding includes plastic bands, and similar material. Use of string, rubber bands, wire or metal banding is not permitted except as provided in (c) below.

[Delete current item (b) in its' entirety]

[Renumber item (c) as item (b); then revise the text to read as follows:]

b. Bundles without polywrap materials must be cross-strapped (encircle the length and girth of the bundle at least once). Additional bands may be used if none lies within 1 inch of any bundle edge.

[Add a new item (c) to read as follows:]

c. With the exception of First-Class Mail flats placed in flat tubs, rubber bands and twine/string are not permitted to use as banding materials to secure bundles.

* * * * *

[Revise the text of item (e) to read as follows:]

e. Newspapers that are placed in a flat tray and entered as exceptional dispatch may use only one strap around the middle to prevent potential damage.

* * * * *

4.8 Preparing Bundles in Sacks and Flat Trays

In addition to following the standards in 4.5 through 4.7, mailers must prepare bundles placed in flat trays and sacks as follows: * * *

[Revise item (d) to read as follows:]

d. Bundles of pieces with covers of “coated stock” (glossy covers) that are not individually enclosed in an envelope or mailing wrapper must be secured with at least two plastic straps or with shrinkwrap plus two plastic straps and must not exceed 6 inches in height.

* * * * *

4.9 Preparing Bundles on Pallets

In addition to general bundling standards in 4.1, bundles on pallets must meet the following standards:

[Revise item 4.9(a) to read as follows:]

a. Bundles without polywrap coverings must be secured with be cross-strapped (encircle the length and girth of the bundle at least once) or shrink-wrap supplemented by one or more bands. Banding includes plastic bands (recommended) or similar material.

* * * * *

5.0 Letter and Flat Trays

5.1 General Standards

Letter-size mailings must be prepared in letter trays with sleeves. First-Class Mail flat-size mailings must be prepared in flat trays with green lids under 235.7.0 and 235.8.0, unless prepared in extended managed mail (EMM) trays under 5.7. Periodicals and USPS Marketing Mail flat-size mailings must be prepared in flat trays with white lids under 207.22.7, 207.25.5, 245.8.7, and 245.10.4.3, and strapped under 5.6.2e.

* * * * *

[Revise the text of 5.1(c) to read as follows:]

c. Flat trays used in a First-Class Mail, USPS Marketing Mail, or Periodicals flat-size mailing may be nested into each other on a pallet without lids and the pallet then shrink-wrapped.

* * * * *

245 Mail Preparation

* * * * *

9.0 Preparing Enhanced Carrier Route Flats

* * * * *

9.5 Multi Carrier Routes Bundle

A mailer may combine individual eligible bundles of USPS Marketing Mail Enhanced Carrier Route basic price mail into a multi carrier routes bundle of the same 5-digit ZIP Code under these conditions: * * *

[Revise the text of item 9.5(d) to read as follows:]

d. The multi carrier routes bundle must be secured with at least two cross-strapped bands, one around the length and one around the girth, or shrink-wrapped with one or more cross-strapped bands.

* * * * *

Colleen Hibbert-Kapler,
Attorney, Ethics and Legal Compliance.

[FR Doc. 2025-03902 Filed 3-11-25; 8:45 am]

BILLING CODE P